FEDERAL ELECTION COMMISSION

Sunshine Act Meeting

AGENCY: Federal Election Commission.

DATE AND TIME: Tuesday, June 10, 2014 (Closed executive session held at the conclusion of the regular executive session).

PLACE: 999 E. Street NW., Washington, DC.

STATUS: This meeting will be closed to the public.

ITEMS TO BE DISCUSSED: Internal personnel rules and internal rules and practices.

* * * * *

PERSON TO CONTACT FOR INFORMATION: Judith Ingram, Press Officer Telephone: (202) 694-1220.

Shelley E. Garr,
Acting Secretary and Clerk of the Commission.

[FR Doc. 2014-13883 Filed 6-11-14; 11:15 am]

BILLING CODE 6715-01-P